DEPARTMENT OF COMMERCE

National Oceanic and Atmospheric Administration

Agency Information Collection Activities; Submission to the Office of Management and Budget (OMB) for Review and Approval; Comment Request; Tornado Watch/Warning Post-Event Evaluation

AGENCY: National Oceanic & Atmospheric Administration (NOAA), Commerce.

ACTION: Notice of Information Collection, request for comment.

SUMMARY: The Department of Commerce, in accordance with the Paperwork Reduction Act of 1995 (PRA), invites the general public and other Federal agencies to comment on proposed, and continuing information collections, which helps us assess the impact of our information collection requirements and minimize the public's reporting burden. The purpose of this notice is to allow for 60 days of public comment preceding submission of the collection to OMB.

DATES: To ensure consideration, comments regarding this proposed information collection must be received on or before March 16, 2021.

ADDRESSES: Interested persons are invited to submit written comments to Adrienne Thomas, NOAA PRA Officer, at Adrienne.thomas@noaa.gov. Do not submit Confidential Business Information or otherwise sensitive or protected information.

FOR FURTHER INFORMATION CONTACT: Requests for additional information or specific questions related to collection activities should be directed to Dr. Kim Klockow-McClain, Research Scientist, OU CIMMS/NOAA NSSL, 120 David L. Boren Blvd., Norman, OK 73071, 405-325-0805, kim.klockow@noaa.gov.

SUPPLEMENTARY INFORMATION:

I. Abstract

Each year over 1000 tornadoes affect communities across the United States, yet very little is known about how individuals receive, interpret, and respond to information from NOAA relating to this hazard. In fact, only a small sample of tornadoes ever receive study, and most often those are only the largest tornadoes. No generalizable information on tornado warning response after real-world events exists. The National Weather Service and National Severe Storms Laboratory have designed this data collection instrument to allow for more routine collection of this information. Respondents will include members of the US public who have recently (within the previous 30 days) been in or near a tornado, and they will be asked questions about the ways they received, understood, and responded to NWS watch/warning information.

The information would be collected by NWS forecasters using their Damage Assessment Tool (DAT), and also by members of the public who voluntarily access a web tool developed by the National Severe Storms Laboratory. The questions will also be included in a standardized post-event survey tool that will be offered to recipients of Natural Hazards Center Quick Response Grants. The information will be used as part of a pilot study to explore methods for more systematically collecting post-event data in support of program evaluation for NOAA's tornado watch/warning system.

II. Method of Collection

A primary method of data collection intends to gather tornado survivor stories through a web-based interface. Currently a web-based App is under development at NSSL. The aim is for this to be similar to the United States Geological Survey (USGS) `Did You Feel It' (DYFI) pages used for reporting earthquakes and feeding in to a realistic Modified Mercalli Intensity (MMI) scale report. Specific questions in the web-based App are aimed at discovering whether tornado watches and warnings were received, and if they were, how they were received as well as what action citizens did or did not take. This will help to define value action gaps more completely. Additionally the web-based App allows citizens to be involved as part of the overall scientific endeavor, helping scientists and researchers understand what helps increase survivability to tornadoes as well as what undermines it.

III. Data

OMB Control Number: 0648-XXXX.

Form Number(s): [None].

Type of Review: New information collection.

Affected Public: Individuals or households.

Estimated Number of Respondents: 1000.

Estimated Time per Response: 5 minutes.

Estimated Total Annual Burden Hours: 83 hours.

Estimated Total Annual Cost to Public: None.

Respondent's Obligation: Voluntary.

Legal Authority:

IV. Request for Comments

We are soliciting public comments to permit the Department/Bureau to: (a) Evaluate whether the proposed information collection is necessary for the proper functions of the Department, including whether the information will have practical utility; (b) Evaluate the accuracy of our estimate of the time and cost burden for this proposed collection, including the validity of the methodology and assumptions used; (c) Evaluate ways to enhance the quality, utility, and clarity of the information to be collected; and (d) Minimize the reporting burden on those who are to respond, including the use of automated collection techniques or other forms of information technology.

Comments that you submit in response to this notice are a matter of public record. We will include or summarize each comment in our request to OMB to approve this ICR. Before including your address, phone number, email address, or other personal identifying information in your comment, you should be aware that your entire comment—including your personal identifying information—may be made publicly available at any time. While you may ask us in your comment to withhold your personal identifying information from public review, we cannot guarantee that we will be able to do so.

Sheleen Dumas,
Department PRA Clearance Officer, Office of the Chief Information Officer, Commerce Department.

[FR Doc. 2021-00879 Filed 1-14-21; 8:45 am]

BILLING CODE 3510-KE-P